DEPARTMENT OF THE INTERIOR

Fish and Wildlife Service

[Docket No. FWS-HQ-IA-2024-0072; FXIA16710900000-245-FF09A30000]

Wild Bird Conservation Act; Receipt of Permit Application

AGENCY: Fish and Wildlife Service, Interior.

ACTION: Notice of receipt of permit application; request for comments.

SUMMARY: We, the U.S. Fish and Wildlife Service (Service), invite the public to comment on a permit application regarding foreign bird species for which the Service has jurisdiction under the Wild Bird Conservation Act (WBCA). With some exceptions, the WBCA prohibits activities with listed species unless Federal authorization is issued that allows such activities. The WBCA also requires that we invite public comment before issuing permits for any activity it otherwise prohibits.

DATES: We must receive comments by June 27, 2024.

ADDRESSES:

Obtaining Documents: The application, application supporting materials, and any comments and other materials that we receive will be available for public inspection at https://www.regulations.gov in Docket No. FWS-HQ-IA-2024-0072.

Submitting Comments: When submitting comments, please specify the name of the applicant and the permit number at the beginning of your comment. You may submit comments by one of the following methods:

• Internet: https://www.regulations.gov. Search for and submit comments on Docket No. FWS-HQ-IA-2024-0072.

• U.S. mail: Public Comments Processing, Attn: Docket No. FWS-HQ-IA-2024-0072; U.S. Fish and Wildlife Service Headquarters, MS: PRB/3W; 5275 Leesburg Pike, Falls Church, VA 22041-3803.

For more information, see Public Comment Procedures under SUPPLEMENTARY INFORMATION.

FOR FURTHER INFORMATION CONTACT: Brenda Tapia, by phone at 703-358-2185 or via email at DMAFR@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

I. Public Comment Procedures

A. How do I comment on submitted applications?

We invite the public and local, State, Tribal, and Federal agencies to comment on the application we have received. Before issuing any of the requested permits, we will take into consideration any information that we receive during the public comment period.

You may submit your comments and materials by one of the methods in ADDRESSES. We will not consider comments sent by email, or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments at https://www.regulations.gov unless our allowing so would violate the Privacy Act (5 U.S.C. 552a) or Freedom of Information Act (5 U.S.C. 552).

C. Who will see my comments?

If you submit a comment at https://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 112(4) of the Wild Bird Conservation Act of 1992 (WBCA; 16 U.S.C. 4901-4916), we invite public comments on permit applications before final action is taken. With some exceptions, the WBCA prohibits certain activities with listed species unless Federal authorization is issued that allows such activities. Service regulations regarding permits for any activity otherwise prohibited by the WBCA with respect to any wild birds are available in title 50 of the Code of Federal Regulations in part 15.

III. Permit Application

We invite comments on the following application.

Applicant: David Kanellis, Las Vegas, NV; Permit No. PER9328605.

The applicant, along with members Martin Stiasny, Robert F. Kennedy, Jr., William G. Meeker, Gary D. Boberg, Mark and Ryan Moglich, Lewis R. Souder, Stephen Bucciarelli, Thomas J. Cullen IV, Michael Clark, Chase Delles, Civon Gewelber, Anthony C. and Joe Suffredini, Corey J. Dalton, David Myers, Rebecca O'Connor, Lauren McGough, Adam Chavez, Erland Renslo, David Dixon, Anne and Paul Schnell, Raymond Guzman, Erland Renslo, Duane Zobrist Sr., Duane Zobrist Jr., and the California Hawking Club, Inc., as their oversight committee, wishes to renew and amend the Cooperative Breeding Program CB030 covering the species listed in table 1 by adding Steve Bergh of Chugiak, Alaska, and Laurayomya Jinright of Clark Fork, Idaho, as members to CB030 and removing Los Angeles Zoo, Stuart Rossell, Titus Plomaritis, Jim Tigan, Steve Hoddy, Rebecca and Justin Searle, Nicole Perretta, and Charles Browning as members to CB030. If the amendment is approved, the program will include Steve Bergh of Chugiak, Alaska, and Laurayomya Jinright of Clark Fork, Idaho, as members of CB030. This notification covers activities to be conducted by the program over a 2-year period.

Table 1—Species Covered by Cooperative Breeding Program CB030
Common name | Scientific name | Common name | Scientific name
African hawk-eagle | Hieraaetus spilogaster | Black goshawk | Accipiter melanoleucus.
European sparrowhawk | Accipiter nisus | Spectacled owl | Pulsatrix perspicillata.
Red-necked falcon | Falco chicquera | Saker falcon | Falco cherrug.
Steppe eagle | Aquila nipalensis | Verreaux's eagle | Aquila verreauxii.
Northern goshawk | Accipiter gentilis | African fish-eagle | Haliaeetus vocifer.
African crowned eagle | Stephanoaetus coronatus | Martial eagle | Polemeatus bellicosus.
Ornate hawk-eagle | Spizaetus ornatus | Bonelli's eagle | Hieraaetus fasciatus.
African goshawk | Accipiter tachiro | Eurasian eagle owl | Bubo bubo.
Ural owl | Strix uralensis | Peregrine falcon | Falco peregrinus.
Southern boobook | Ninox boobook | Lanner falcon | Falco biarmicus.
Verreaux's eagle-owl | Bubo lacteus.

IV. Next Steps

After the comment period closes, we will make a decision regarding permit issuance. If we issue the permit to the applicant listed, we will publish a notice in the Federal Register. You may locate the notice announcing the permit issuance by searching https://www.regulations.gov for the permit number listed above in this document. For example, to find information about the potential issuance of Permit No. 12345A, you would go to https://www.regulations.gov and search for “12345A”.

V. Authority

We issue this notice under the authority of the implementing regulations and under the authority of the Wild Bird Conservation Act of 1992 (16 U.S.C. 4901-4916). This notice is provided pursuant to section 112(4) of the Wild Bird Conservation Act of 1992, 50 CFR 15.26(c).

Brenda Tapia,
Supervisory Program Analyst/Data Administrator, Branch of Permits, Division of Management Authority.

[FR Doc. 2024-11653 Filed 5-24-24; 8:45 am]

BILLING CODE 4333-15-P